DEPARTMENT OF TRANSPORTATION

Federal Highway Administration

Environmental Impact Statement; Mills County, IA; Sarpy County, NE

AGENCY: Federal Highway Administration (FHWA), DOT.

ACTION: Notice of intent.

SUMMARY: The FHWA is issuing this notice to advise the public that an environmental impact statement will be prepared for a proposed bridge and roadway improvement project in Sarpy County, Nebraska, and in Mills County, Iowa.

FOR FURTHER INFORMATION CONTACT: Lisa Rold, Transportation Engineer, FHWA Iowa Division Office, 105 Sixth Street, Ames, IA 50010, Ph. 515-233-7307; or James P. Rost, Director, Office of Location and Environment, Iowa Department of Transportation, 800 Lincoln Way, Ames, IA 50010, Ph. 515-239-1798.

SUPPLEMENTARY INFORMATION:

Electronic Access

An electronic copy of this document is available for free download from the Federal Bulletin Board (FBB). The FBB is a free electronic bulletin board service of the Superintendent of Documents, U.S. Government Printing Office (GPO).

The FBB may be accessed in four ways: (1) Via telephone in dial-up mode or via the Internet through (2) telnet, (3) FTP, and (4) the World Wide Web.

For dial-in mode a user needs a personal computer, modem, telecommunications software package and telephone line. A hard disk is recommended for file transfers.

For Internet access a user needs Internet connectivity. Users can telnet or FTP to: fedbbs.access.gpo.gov. Users can access the FBB via the World Wide Web at http://fedbbs.access.gpo.gov.

User assistance for the FBB is available from 7 a.m. until 5 p.m., Eastern Time, Monday through Friday (except federal holidays) by calling the GPO Office of Electronic Information Dissemination Services at 202-512-1530, toll-free at 888-293-6498; sending an e-mail to gpoaccess@gpo.gov; or sending a fax to 202-512-1262.

Access to this notice is also available to Internet users through the Federal Register's home page at http://www.nara.gov/fedreg.

Background

The FHWA, in cooperation with the Iowa Department of Transportation (Iowa DOT) and Nebraska Department of Roads (NDOR), will prepare an EIS for the proposed Bellevue Bridge Study. In addition to a new bridge over the Missouri River, the proposed project would also include roadway improvements to provide a high-speed connection from US 75 in Sarpy County, Nebraska to Interstate 29 in Mills County, Iowa.

The existing two-lane toll bridge over the Missouri River at Bellevue on Nebraska Highway 370 is both functionally and structurally obsolete. The bridge has a narrow 20-foot wide driving surface and is in poor structural condition. The proposed bridge and roadway improvements will improve safety, traffic flow, and commerce between western Iowa and eastern Nebraska.

Alternatives under consideration include: (1) Taking no action; (2) rehabilitating and widening the existing two-lane bridge; and (3) constructing a roadway on a new location (including near the existing bridge). The build alternative will include consideration of various alignments and grades.

Letters describing the proposed action and soliciting comments will be sent to appropriate Federal, State, and local agencies, and to private organizations and citizens who have previously expressed or are known to have interest in this proposal. A series of public meetings will be held in 2003 and 2004. In addition, a public hearing will be held upon completion of the draft EIS. Public notice will be given of the time and place of the public meetings and public hearing. The draft EIS will be available for public and agency review and comment prior to the public hearing.

A scoping meeting (the initial public meeting) will be held for identifying significant issues to be addressed in the environmental impact statement. The date and location of the scoping meeting have not yet been determined but will be advertised in various local media.

To ensure that the full range of issues related to this proposed action are addressed and all significant issues are identified, comments and suggestions are invited from all interested parties. Comments or questions concerning this proposed action and the EIS should be directed to the FHWA or Iowa Department of Transportation at the address provided in the caption FOR FURTHER INFORMATION CONTACT.

(Catalog of Federal Domestic Assistance Program Number 20.205, Highway Planning and Construction. The regulations implementing Executive Order 12372 regarding intergovernmental consultation on Federal programs and activities apply to this program.)

(Authority: 23 U.S.C. 315; 49 CFR 1.48)

Dated: January 13, 2003.
Bobby W. Blackmon,
Division Administrator, FHWA, Iowa Division.

[FR Doc. 03-1193 Filed 1-17-03; 8:45 am]

BILLING CODE 4910-22-P